FEDERAL COMMUNICATIONS COMMISSION

[FR ID: 194270]

Privacy Act of 1974; System of Records

AGENCY: Federal Communications Commission.

ACTION: Notice of a modified system of records.

SUMMARY: The Federal Communications Commission (FCC or Commission or Agency) has modified an existing system of records, FCC/OMD-18, Telephone Call Details, subject to the Privacy Act of 1974, as amended. This action is necessary to meet the requirements of the Privacy Act to publish in the Federal Register notice of the existence and character of records maintained by the agency. The FCC's Office of the Managing Director (OMD) will use a vendor-provided management solution to maintain information associated with the FCC's wireless communications equipment, functions, and services. This modification makes various necessary changes and updates, including formatting changes required by the Office of Management and Budget (OMB) Circular A-108 since its previous publication, and the revision of existing routine uses.

DATES: This modified system of records will become effective on December 29, 2023. Written comments on the routine uses are due by January 29, 2024. The routine uses in this action will become effective on January 29, 2024] unless comments are received that require a contrary determination.

ADDRESSES: Send comments to Brendan McTaggart, Attorney-Advisor, Office of General Counsel, Federal Communications Commission, 45 L Street NE, Washington, DC 20554, or to privacy@fcc.gov.

FOR FURTHER INFORMATION CONTACT: Brendan McTaggart, (202) 418-1738, or privacy@fcc.gov (and to obtain a copy of the Narrative Statement and the Supplementary Document, which includes details of the modifications to this system of records).

SUPPLEMENTARY INFORMATION: As required by the Privacy Act of 1974, as amended, 5 U.S.C. 552a(e)(4) and (e)(11), this document sets forth notice of the proposed modification of a system of records maintained by the FCC. The FCC previously provided notice of the system of records FCC/OMD-18 by publication in the Federal Register on March 10, 2017 (82 FR 13348). This notice serves to modify FCC/OMD-18 to make various necessary changes and updates, including renaming and clarifying the purpose of the system, making formatting changes required by OMB Circular A-108, and revising existing routine uses. The substantive changes and modifications to the previously published version of the FCC/OMD-18 system of records include:

1. Narrowing the scope of the SORN and renaming the system of records to reflect that only information about FCC employee wireless communications equipment, functions, and services is maintained in this system.

2. Updating the system's description to reflect the transition to a vendor-provided solution;

3. Modifying the language in the Categories of Individuals and Categories of Records to reflect changes to the system;

4. Updating and/or revising language in the following routine uses (listed by current routine use number): the former Litigation and Adjudication routine use has been modified into two revised routine uses—(1) Litigation, and (2) Adjudication; (3) Law Enforcement and Investigation; (4) Congressional Inquiries; (5) Government-wide Program Management and Oversight; (9) Communications Providers; and (10) Non-Federal Personnel.

5. Deleting two routine uses (listed by former routine use number), which no longer reflect uses or disclosures of records from this system: (5) Employment, Clearances, Licensing, Contract, Grant, or other Benefits Decisions by the Agency; and (6) Employment, Clearances, Licensing, Contract, Grant, or other Benefits Decisions by Other than the Agency

6. Updating the existing records retention and disposal schedule with a new records schedule: National Archives and Records Administration (NARA) General Records Schedule 5.5: “Mail, Printing, and Telecommunication Service Management Records.”

The system of records is also revised for clarity and updated to reflect various administrative changes related to the system managers and system addresses; policy and practices for storage and retrieval of the information; administrative, technical, and physical safeguards; and updated notification, records access, and contesting records procedures.

SYSTEM NAME AND NUMBER:

FCC/OMD-18, FCC Wireless Communications Information.

SECURITY CLASSIFICATION:

No information in the system is classified.

SYSTEM LOCATION:

Information Technology (IT), Office of the Managing Director (OMD), Federal Communications Commission (FCC), 45 L Street NE, Washington, DC 20554.

SYSTEM MANAGER(S):

Information Technology (IT), Office of the Managing Director (OMD), Federal Communications Commission (FCC), 45 L Street NE, Washington, DC 20554.

AUTHORITY FOR MAINTENANCE OF THE SYSTEM:

5 U.S.C. 301, 44 U.S.C. 3101, and 47 U.S.C. 154(i).

PURPOSE(S) OF THE SYSTEM:

This system collects information related to the FCC's wireless communications equipment, functions, and services, and the associated costs and charges for wireless communications equipment, functions, and services. The collection of the records in this system serve the following purposes:

1. Accounting for the information contained in bills for wireless communications equipment, functions, or services; and

2. Ensuring that the FCC operates efficiently and effectively, and guards against any improper uses of FCC wireless communications equipment, functions, or services.

CATEGORIES OF INDIVIDUALS COVERED BY THE SYSTEM:

1. FCC staff (including, but not limited to current and former employees, interns, co-op students, and volunteers) who have been issued FCC wireless communications equipment; and

2. FCC contractors who have been issued FCC wireless communications equipment.

CATEGORIES OF RECORDS IN THE SYSTEM:

The categories of records in the system include:

1. Records of the Commission's wireless communications equipment, functions, and services, and the associated costs and charges, which include, but are not limited to:

a. Communications numbers (including telephone numbers, IP addresses, or other unique communications identifier(s) (e.g., International Mobile Equipment Identity (IMEI) numbers));

b. Time (call start and call end) and data usage from wireless communications;

c. Duration of wireless communications (lapsed time);

d. Disposition and cost of communications; and

e. FCC bureau/office to which each relevant identifying wireless communications number is assigned.

2. Type and number of FCC wireless communications devices assigned to FCC staff (employees and contractors);

3. Copies of related wireless communications and service records, including any periodic summaries which may have been compiled to reflect the total number and type of communications and related user charges, usages, and fees from wireless communications equipment assigned to FCC employees; and

4. Names and email addresses of FCC staff and contractors;

5. Personal telephone numbers and personal mailing addresses for FCC staff and contractors, if voluntarily provided by those individuals.

This system does not include or maintain the contents of calls, messages, or other communications to or from FCC wireless equipment or communicated over FCC wireless services or functions.

RECORD SOURCE CATEGORIES:

Record source categories in this system include purchase orders; bills and other documentation associated with the usage and charges for the wireless communications, including but not limited to voice, text, and other teleconferencing services and functions (audio or video), using various equipment and devices (including, but not limited to cellular telephones, other mobile or broadband devices, and teleconferencing services (audio or video)); and individuals about whom records are maintained, as well as their supervisors and managers.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected:

1. Litigation—To disclose records to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the DOJ is for a purpose that is compatible with the purpose for which the FCC collected the records.

2. Adjudication—To disclose records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

3. Law Enforcement and Investigation—When the FCC becomes aware of an indication of a violation or potential violation of a civil or criminal statute, law, regulation, order, or other requirement, to disclose pertinent information to appropriate Federal, State, local, Tribal, international, or multinational agencies, or a component of such an agency, responsible for investigating, prosecuting, enforcing, or implementing a statute, rule, regulation, order, or other requirement.

4. Congressional Inquiries—To provide information to a Congressional office from the record of an individual in response to an inquiry from that Congressional office made at the written request of that individual.

5. Government-wide Program Management and Oversight—To provide information to the DOJ to obtain that department's advice regarding disclosure obligations under FOIA; or to OMB to obtain that office's advice regarding obligations under the Privacy Act.

6. Labor Relations—To officials of labor organizations recognized under 5 U.S.C. chapter 71 upon receipt of a formal request and in accord with the conditions of 5 U.S.C. 7114 when relevant and necessary to their duties of exclusive representation concerning personnel policies, practices, and matters affecting working conditions.

7. Breach Notification—To appropriate agencies, entities, and persons when: (a) The Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

8. Assistance to Federal Agencies and Entities Related to Breaches—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

9. Communications Providers—To a communications company providing support to permit account servicing, billing verification, and related requirements.

10. Non-Federal Personnel—To disclose information to non-Federal personnel, including contractors, other vendors (e.g., identity verification services), grantees, and volunteers who have been engaged to assist the FCC in the performance of a contract service, grant, cooperative agreement, or other activity related to this system of records and who need to have access to the records in order to perform their activity.

POLICIES AND PRACTICES FOR STORAGE OF RECORDS:

1. This electronic system of records resides on the FCC's or a third-party vendor's accredited network.

2. The paper records, if any, are stored in file cabinets in “non-public” rooms in the Information Technology (IT) office suite for one year.

POLICIES AND PRACTICES FOR RETRIEVAL OF RECORDS:

Records in this system of records can be retrieved by any category field, e.g., the individual's name, and/or identifying communications number.

POLICIES AND PRACTICES FOR RETENTION AND DISPOSAL OF RECORDS:

The FCC maintains and disposes of these various telephone, fax, text, and related electronic transmission service records in this system in accordance with National Archives and Records Administration (NARA) General Records Schedule 5.5: “Mail, Printing, and Telecommunication Service Management Records.”

ADMINISTRATIVE, TECHNICAL, AND PHYSICAL SAFEGUARDS:

The electronic records, files, and data are stored within FCC or a vendor's accreditation boundaries and maintained in a database housed in the FCC's or vendor's computer network databases. Access to the electronic files is restricted to authorized employees and contractors; and to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), OMB, and the National Institute of Standards and Technology (NIST).

The paper documents and files, if any, are maintained in file cabinets in “non-public” rooms in the IT office suite. The file cabinets are locked at the end of the business day. Access to the IT offices is via a key and card-coded door.

RECORD ACCESS PROCEDURES:

Individuals wishing to request access to and/or amendment of records about themselves should follow the Notification Procedures below.

CONTESTING RECORD PROCEDURES:

Individuals wishing to contest information pertaining to him or her in the system of records should follow the Notification Procedures below.

NOTIFICATION PROCEDURES:

Individuals wishing to determine whether this system of records contains information about themselves may do so by writing to privacy@fcc.gov. Individuals requesting record access or amendment must also comply with the FCC's Privacy Act regulations regarding verification of identity as required under 47 CFR part 0, subpart E.

EXEMPTIONS PROMULGATED FOR THE SYSTEM:

None.

HISTORY:

82 FR 13348 (March 10, 2017).

Federal Communications Commission.
Katura Jackson,
Federal Register Liaison Officer.

[FR Doc. 2023-28751 Filed 12-28-23; 8:45 am]

BILLING CODE 6712-01-P